NUCLEAR REGULATORY COMMISSION

[Docket Nos. 50-327 and 50-328; NRC-2013-0037]

Sequoyah Nuclear Plant, Units 1 & 2

AGENCY: Nuclear Regulatory Commission.

ACTION: Supplemental environmental impact statement; issuance.

SUMMARY: The U.S. Nuclear Regulatory Commission (NRC) is issuing a final plant-specific supplement, Supplement 53, to NUREG-1437, “Generic Environmental Impact Statement for License Renewal of Nuclear Plants (GEIS),” regarding the renewal of Tennessee Valley Authority (TVA) operating licenses DPR-77 and DPR-79 for an additional 20 years of operation for Sequoyah Nuclear Plant, Units 1 & 2 (SQN).

DATES: The supplemental environmental impact statement referenced in this document is available on March 27, 2015.

ADDRESSES: Please refer to Docket ID NRC-2013-0037 when contacting the NRC about the availability of information regarding this document. You may obtain publicly-available information related to this document using any of the following methods:

• Federal Rulemaking Web site: Go to http://www.regulations.gov and search for Docket ID NRC-2013-0037. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 53 to the GEIS is available in ADAMS under Accession No. ML15075A438.

• NRC's PDR: You may examine and purchase copies of public documents at the NRC's PDR, Room O1-F21, One White Flint North, 11555 Rockville Pike, Rockville, Maryland 20852.

• Chattanooga-Hamilton County Library, Northgate Branch: The final Supplement 53 to the GEIS is available for public inspection at 520 Northgate Mall Road, Chattanooga, TN 37415.

FOR FURTHER INFORMATION CONTACT: David Drucker, Office of Nuclear Reactor Regulation, U.S. Nuclear Regulatory Commission, Washington, DC 20555-0001; telephone: 800-368-5692, ext. 6223, email: David.Drucker@nrc.gov.

SUPPLEMENTARY INFORMATION:

I. Background

In accordance with § 51.118 of Title 10 of the Code of Federal Regulations, the NRC is issuing the final Supplement 53 to the GEIS regarding the renewal of TVA operating licenses DPR-77 and DPR-79 for an additional 20 years of operation for SQN. Draft Supplement 53 to the GEIS was noticed by the NRC in the Federal Register on August 11, 2014 (79 FR 46878), and noticed by the Environmental Protection Agency on August 15, 2014 (79 FR 48140). The public comment period on draft Supplement 53 to the GEIS ended on September 29, 2014, and the comments received are addressed in final Supplement 53 to the GEIS.

II. Discussion

As discussed in Chapter 5 of the final Supplement 53 to the GEIS, the NRC determined that the adverse environmental impacts of license renewal for SQN are not so great that preserving the option of license renewal for energy-planning decisionmakers would be unreasonable. This recommendation is based on: (1) The analysis and findings in the GEIS; (2) information provided in the environmental report and other documents submitted by TVA; (3) consultation with Federal, State, local, and Tribal agencies; (4) the NRC staff's independent environmental review; and (5) consideration of public comments received during the scoping process and on the draft supplemental environmental impact statement.

Dated at Rockville, Maryland, this 19th day of March, 2015.
For the Nuclear Regulatory Commission.
Brian D. Wittick,
Chief, Projects Branch 2, Division of License Renewal, Office of Nuclear Reactor Regulation.

[FR Doc. 2015-06961 Filed 3-26-15; 8:45 am]

BILLING CODE 7590-01-P